CONSUMER PRODUCT SAFETY COMMISSION

[CPSC Docket No. 22-1]

Notice of Prehearing Conference

AGENCY: Consumer Product Safety Commission.

ACTION: Notice.

SUMMARY: Notice of prehearing conference for In the Matter of Leachco, Inc.; CPSC Docket No. 22-1.

DATES: Thursday, June 29, 2023 at 11:00 a.m. Eastern Time.

ADDRESSES: This event will be held remotely.

FOR FURTHER INFORMATION CONTACT: Alberta E. Mills, Consumer Product Safety Commission, Office of the General Counsel, Division of the Secretariat, cpsc-os@cpsc.gov; 240-863-8938; 301-504-7479.

SUPPLEMENTARY INFORMATION: The text of the Presiding Officer's June 15, 2023 Order Scheduling Prehearing Conference appears below.

Authority: Consumer Product Safety Act, 15 U.S.C. 2064.

Dated: June 15, 2023.
Alberta E. Mills,
Secretary, Consumer Product Safety Commission.

FEDERAL MINE SAFETY AND HEALTH REVIEW COMMISSION

Office of the Chief Administrative Law Judge, 1331 Pennsylvania Ave. NW, Suite 520N, Washington, DC 20004-1710, Telephone: 202-434-9950, Fax: 202-434-9949,

June 15, 2023

In the Matter of LEACHCO, INC., CPSC Docket No. 22-1

Respondent.

ORDER SCHEDULING PREHEARING CONFERENCE

An initial prehearing conference was held on April 22, 2022. A second prehearing conference was held on September 7, 2022.

On June 9, 2023, Respondent filed a motion for summary decision. Respondent also requested oral argument on the motion. Complaint Counsel has said he does not believe oral argument is necessary, but that he would be available for argument and that argument would not affect the current prehearing schedule agreed to by the parties.

Upon consultation, the parties agreed to convene a third prehearing conference for oral argument. Other relevant matters, such as the status of discovery motions, matters to be included in the final prehearing order, and any other prehearing issues the parties need to address may also be discussed. See 16 CFR 1025.21(c) (2022).

Each party shall be permitted 20 minutes for argument. As movant, Respondent shall be permitted to reserve five (5) minutes of its time for rebuttal.

A third prehearing conference shall be held as follows:

Date: Thursday, June 29, 2022.

Time: 11:00 a.m. Eastern Daylight Time.

Means: Zoom [link provided to those listed in Distribution].

The CPSC is working to secure a court reporter for the prehearing conference. I direct that notice of this conference be published in the Federal Register. 16 CFR 1025.21(b) (2022).

Administrative Law Judge

Distribution:

Brett Ruff, U.S. Consumer Product Safety Commission, 4330 East West Highway, Bethesda, MD 20814, bruff@cpsc.gov

Rosalee Thomas, U.S. Consumer Product Safety Commission, 4330 East West Highway, Bethesda, MD 20814, rbthomas@cpsc.gov

Caitlin O'Donnell, U.S. Consumer Product Safety Commission, 4330 East West Highway, Bethesda, MD 20814, codonnell@cpsc.gov

Michael J. Rogal, U.S. Consumer Product Safety Commission, 4330 East West Highway, Bethesda, MD 20814, mrogal@cpsc.gov

Gregory Reyes, U.S. Consumer Product Safety Commission, 4330 East West Highway, Bethesda, MD 20814, greyes@cpsc.gov

Frank Perilla, U.S. Consumer Product Safety Commission, 4330 East West Highway, Bethesda, MD 20814, FPerilia@cpsc.gov

Oliver J. Dunford, Pacific Legal Foundation, 4440 PGA Blvd., Suite 307, Palm Beach Gardens, FL 33410, ODunford@pacificlegal.org

John F. Kerkhoff, Pacific Legal Foundation, 3100 Clarendon Boulevard, Suite 610, Arlington, VA 22201, JKerkhoff@pacificlegal.org

Frank Garrison, Pacific Legal Foundation, 3100 Clarendon Boulevard, Suite 610, Arlington, VA 22201, FGarrison@pacificlegal.org

Jessica L. Thompson, Pacific Legal Foundation, 3100 Clarendon Boulevard, Suite 610, Arlington, VA 22201, JLThompson@pacificlegal.org

Alberta E. Mills, U.S. Consumer Product Safety Commission, 4330 East West Highway, Bethesda, MD 20814, amills@cpsc.gov

[FR Doc. 2023-13185 Filed 6-20-23; 8:45 am]

BILLING CODE 6355-01-P